DEPARTMENT OF LABOR

Office of the Secretary

Submission for OMB Review: Comment Request

March 22, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Ira Mills on (202) 693-4122 (this is not a toll-free number) or e-mail: mills.ira@dol.gov.

Comments should be sent to Office of Information and Regulatory Affairs, Attn: OMB Desk Officer for the Occupational Safety and Health Administration (OSHA), Office of Management and Budget, Room 10235, Washington, DC 20503, (202) 395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension.

Title: Non Production Questionnaire.

OMB Number: 1205-0447.

Frequency: On occasion.

Type of Response: Reporting.

Affected Public: Individuals or households.

Number of Respondents: 810.

Number of Annual Responses: 810.

Estimated Time per Response: 3.5 hours.

Total Burden Hours: 2,835.

Total Annualized Capital/Startup Costs: $0.

Total Annual Costs (operating/maintaining systems or purchasing services): $0.

Total Annual Costs (operating/maintaining systems or purchasing services): $51,660.

Description: Information on this form is required in order to make a determination on TAA petitions filed on behalf of service workers according to Section 223 of the Trade Act, as amended.

Ira L. Mills,
Departmental Clearance Officer.

[FR Doc. 05-6119 Filed 3-28-05; 8:45 am]

BILLING CODE 4510-26-P